DEPARTMENT OF DEFENSE

Department of the Navy

Notice of Availability of Government-Owned Invention; Available for Licensing

AGENCY: Department of the Navy, DOD.

ACTION: Notice.

SUMMARY: The following invention is assigned to the U.S. Government as represented by the Secretary of the Navy and is available for licensing by the Department of the Navy. U.S. Invention Disclosure Navy Case Number 95,919 entitled “Integrated Maritime Portable Acoustic Scoring and Simulator Control and Improvements.”

ADDRESSES: Requests for copies of the invention cited should be directed to the Naval Surface Warfare Center, Code 05T, 101 Strauss Avenue, Indian Head, MD 20640-5035.

FOR FURTHER INFORMATION CONTACT: Dr. J. Scott Deiter, Head, Technology Transfer Office, Naval Surface Warfare Center Indian Head Division, Code 05T, 101 Strauss Avenue, Indian Head, MD 20640-5035, telephone (301) 744-6111.

Dated: November 20, 2003.
S.K. Melancon,
Paralegal Specialist, Office of the Judge Advocate General, Alternate Federal Register Liaison Officer.

[FR Doc. 03-29908 Filed 12-1-03; 8:45 am]

BILLING CODE 3810-FF-P